AGENCY FOR INTERNATIONAL DEVELOPMENT

Bureau for Democracy, Conflict and Humanitarian Assistance; Office of Food for Peace; Announcement of Draft Office of Food for Peace Food for Peace Act Title II Program Proposal Guidelines for Rapid-Onset Emergencies

Notice

Notice is hereby given that Draft Office of Food for Peace Food for Peace Act Title II Program Proposal Guidelines for Rapid-Onset Emergencies are available to interested parties for general viewing. Comments should be submitted to FACG@amexdc.com by March 13, 2009.

Individuals who wish to access the current Food for Peace Act Title II guidelines including the Draft Rapid-Onset Emergency Proposal Guidelines, should visit the Food for Peace Web site at http://www.usaid.gov/our_work/humanitarian_assistance/ffp/, or contact the Office of Food for Peace, U.S. Agency for International Development, RRB 7.06-102, 1300 Pennsylvania Avenue, NW., Washington, DC 20523-7600.

Juli Majernik,
Grants Manager, Policy and Technical Division, Office of Food for Peace, Bureau for Democracy, Conflict and Humanitarian Assistance.

[FR Doc. E9-3762 Filed 2-20-09; 8:45 am]

BILLING CODE 6116-02-P